DEPARTMENT OF DEFENSE

Office of the Secretary

[Transmittal No. 16-85]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Pamela Young, DSCA/SA&E-RAN, (703) 697-9107.

The following is a copy of a letter to the Speaker of the House of Representatives, Transmittal 16-85 with attached Policy Justification and Sensitivity of Technology.

Dated: February 6, 2017.
Aaron Siegel,
Alternate OSD Federal Register Liaison Officer, Department of Defense.

Transmittal No. 16-85

Notice of Proposed Issuance of Letter of Offer, Pursuant to Section 36(b)(1) of the Arms Export Control Act, as amended

(i) Prospective Purchaser: Republic of Korea

(ii) Total Estimated Value:

Major Defense Equipment* | $60 million
Other | $10 million
Total | $70 million

(iii) Description and Quantity or Quantities of Articles or Services under Consideration for Purchase:

Major Defense Equipment (MDE):

Sixty (60) AIM-9X-2 Sidewinder Block II All-Up-Round Missiles

Six (6) AIM-9X-2 Block II Tactical Guidance Units

Non-MDE include: Containers, spares and missile support, U.S. government and contractor technical assistance, and other related elements of logistics support.

(iv) Military Department: Navy (KS-P-AMA)

(v) Prior Related Cases, if any: FMS Case KS-P-AKR, KS-P-AKZ

(vi) Sales Commission, Fee, etc., Paid, Offered, or Agreed to be Paid: None

(vii) Sensitivity of Technology Contained in the Defense Article or Defense Services Proposed to be Sold: See Annex Attached.

(viii) Date Report Delivered to Congress: January 31, 2017.

*As defined in Section 47(6) of the Arms Export Control Act.

POLICY JUSTIFICATION

Republic of Korea—AIM-9X-2 Sidewinder Missiles

The Government of the Republic of Korea (ROK) has requested a possible sale of sixty (60) AIM-9X-2 Sidewinder Block II All-up-Round Missiles and six (6) AIM-9X-2 Block II Tactical Guidance Units, containers, spares and missile support, U.S. Government and contractor technical assistance, and other related elements of logistics support. The estimated cost is $70 million.

This proposed sale contributes to the foreign policy and national security of the United States. The ROK is one of the major political and economic powers in East Asia and the Western Pacific and a key partner of the United States in ensuring peace and stability in the region. It is vital to U.S. national interests to assist our Korean ally in developing and maintaining a strong and ready self-defense capability. This sale increases the ROK's capability to participate in Pacific regional security operations and improves its national security posture as a key U.S. ally.

The ROK intends to use the AIM-9X-2 Sidewinder Block II missiles to supplement its existing inventory of AIM-9X-2 Block II missiles. The ROK will use the enhanced capability as a deterrent to regional threats and to strengthen its homeland defense. The ROK will have no difficulty absorbing these additional missiles into its armed forces.

The proposed sale of this equipment and support does not affect the basic military balance in the region.

The principal contractor is Raytheon Missile Systems Company, Tucson, AZ. At this time, there are no known offset agreements proposed in connection with this potential sale.

Implementation of this proposed sale will not require the assignment of any additional U.S. Government or contractor representatives to the Republic of Korea. However, U.S. Government or contractor personnel in-country visits will be required on a temporary basis in conjunction with program technical oversight and support requirements.

There will be no adverse impact on U.S. defense readiness as a result of this proposed sale.

Transmittal No. 16-85

Notice of Proposed Issuance of Letter of Offer Pursuant to Section 36(b)(1) of the Arms Export Control Act

Annex

Item No. vii

(vii) Sensitivity of Technology:

1. The AIM-9X-2 Block II Sidewinder Missile represents a substantial increase in missile acquisition and kinematics performance over the AIM-9M and replaces the AIM-9X Block I Missile configuration. The missile includes a high off-bore sight seeker, enhanced countermeasures rejection capability, low drag/high angle of attack airframe and the ability to integrate the Helmet Mounted Cueing System. The software algorithms are the most sensitive portion of the AIM-9X-2 missile. The software continues to be modified via a pre-planned production improvement (P3I) program in order to improve its counter-countermeasure capabilities. No software source code or algorithms will be released. The missile is classified as CONFIDENTIAL.

2. The AIM-9X-2 will result in the transfer of sensitive technology and information. The equipment, hardware, and documentation are classified CONFIDENTIAL. The software and operation performance are classified SECRET. The seeker/guidance control section and the target detector are CONFIDENTIAL and contain sensitive state-of-the-art technology. Manuals and technical documentation that are necessary for support operational use and organizational management are classified to SECRET. Performance and operating logic of the counter-measures circuits are classified SECRET. The hardware, software, and data identified are classified to protect vulnerabilities, design and performance parameters and similar critical information.

3. If a technologically advanced adversary were to obtain knowledge of the specific hardware and software elements, the information could be used to develop countermeasures which might reduce system effectiveness or be used in the development of a system with similar or advanced capabilities.

4. A determination has been made that the recipient country can provide the same degree of protection for the sensitive technology being released as the U.S. Government. This sale is necessary in furtherance of the U.S. foreign policy and national security objectives outlines in the Policy Justification.

5. All defense articles and services listed in this transmittal have been authorized for release and export to the Republic of Korea.

[FR Doc. 2017-02708 Filed 2-8-17; 8:45 am]

BILLING CODE 5001-06-P